DEPARTMENT OF TRANSPORTATION

Surface Transportation Board

[STB Finance Docket No. 34398]

BG & CM Railroad—Acquisition and Operation Exemption—Line of Camas Prairie Railnet, Inc.

BG & CM Railroad (BG & CM), a noncarrier, has filed a verified notice of exemption under 49 CFR 1150.31 to acquire from Camas Prairie Railnet, Inc. (Camas Prairie) and operate approximately 66.8 miles of rail line between Spalding and Grangeville in Lewis, Nez Perce, and Idaho Counties, ID.¹ This line, extending from milepost 0.0 to milepost 66.8, was authorized for abandonment in Camas Prairie Railnet, Inc.—Abandonment—in Lewis, Nez Perce and Idaho Counties, ID (Between Spalding and Grangeville), STB Docket No. AB-564 (STB served Sept. 13, 2000).² BG & CM was subsequently authorized to negotiate for trail use of the line by a decision and certificate of interim trail use (CITU) served in the same docket on January 6, 2003. Trail use negotiations were successful and BG & CM has acquired all relevant, track, ties and other track materials, and sufficient real estate interests for railroad operations. BG & CM wishes to reactivate service from milepost 0.0 to milepost 52.0, but requests that the remainder of the line, from milepost 52.0 to milepost 66.8, remain rail banked pursuant to the CITU.³

¹ This notice of exemption is the subject of a motion to dismiss filed simultaneously by BG & CM based on its position that Board authorization is not necessary. Further, the operations described in this notice are also the subject of a BG & CM petition for exemption from the requirements of 49 U.S.C. Subtitle IV filed in BG & CM Railroad, Inc.—Petition for Exemption—in Lewis, Nez Perce, and Idaho Counties, ID, STB Finance Docket No. 34399. Both will be decided in a subsequent Board decision.

² Camas Prairie has discontinued service over the line, but has not consummated the abandonment thereof.

³ As to the segment between mileposts 52.0 and 66.8 that would remain rail banked, BG & CM seeks authorization from the Board to acquire Camas Prairie's right to reactivate rail service in the future.

The exemption became effective on September 23, 2003 (seven days after the notice was filed), but BG & CM intends to consummate the transaction and begin service only upon issuance of a Board decision exempting it from the regulatory requirements of 49 U.S.C., Subtitle IV. BG & CM certifies that its projected annual revenues do not exceed those that would qualify it as a Class III carrier.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34398 must be filed with the Surface Transportation Board, 1925 K Street, NW., Washington, DC 20423-0001. In addition, a copy of each pleading must be served on Charles H. Montange, 426 NW 162 St., Seattle, WA 98177.

Board decisions and notices are available on our Web site at http://www.stb.dot.gov.

Decided: September 29, 2003.
By the Board, David M. Konschnik, Director, Office of Proceedings.
Vernon A. Williams,
Secretary.

[FR Doc. 03-25099 Filed 10-3-03; 8:45 am]

BILLING CODE 4915-00-P